DEPARTMENT OF TRANSPORTATION

Pipeline and Hazardous Materials Safety Administration

49 CFR Part 195

[Docket No. PHMSA-2025-0122]

RIN 2137-AF90

Pipeline Safety: Standards Update—API RP 2026

AGENCY: Pipeline and Hazardous Materials Safety Administration (PHMSA), Department of Transportation (DOT).

ACTION: Direct final rule (DFR); confirmation of effective date.

SUMMARY: PHMSA is confirming the effective date for the DFR that appeared in the Federal Register on July 1, 2025. The DFR amended PHMSA's regulations at 49 CFR part 195 to incorporate by reference the updated industry standard American Petroleum Institute (API) Recommended Practice (RP) 2026, “Safe Access/Egress Involving Floating Roofs of Storage Tanks in Petroleum Service.”

DATES: PHMSA confirms the effective date of January 1, 2026, for the DFR that appeared in the Federal Register on July 1, 2025 (90 FR 28116).

FOR FURTHER INFORMATION CONTACT: Brianna Wilson, Transportation Specialist, by phone at 771-215-0969 or email at brianna.wilson@dot.gov.

SUPPLEMENTARY INFORMATION: On July 1, 2025 (90 FR 28116), PHMSA published a DFR amending its regulations at 49 CFR part 195 to incorporate by reference the 4th edition of API RP 2026, “Safe Access/Egress Involving Floating Roofs of Storage Tanks in Petroleum Service.” Reference to the 4th edition of API RP 2026 will replace existing references within 49 CFR 195.405(b) to API Recommended Practice 2026, “Safe Access/Egress Involving Floating Roofs of Storage Tanks in Petroleum Service,” 3rd edition, June 2017.

PHMSA issued the DFR under the procedures set forth at 49 CFR 190.339. In accordance with those provisions, PHMSA stated in the DFR that if no adverse comments were received, the DFR would become final and effective on January 1, 2026. PHMSA did not receive any comments that warranted withdrawal of the DFR; therefore, this rule will become effective as scheduled.

Issued in Washington, DC, on September 30, 2025, under the authority designated in 49 CFR 1.97.
Benjamin D. Kochman,
Deputy Administrator.

[FR Doc. 2025-19339 Filed 10-1-25; 8:45 am]

BILLING CODE 4910-60-P